ENVIRONMENTAL PROTECTION AGENCY

[Docket No. EPA-R02-OAR-2009-0508; FRL-8942-8]

Adequacy Status of the Municipality of Guaynabo, PR submitted PM10 Limited Maintenance Plan for Transportation Conformity Purposes

AGENCY: Environmental Protection Agency (EPA).

ACTION: Notice of Adequacy.

SUMMARY: In this notice, EPA is notifying the public that we have found that the Limited Maintenance Plan for PM10 in the Municipality of Guaynabo, Puerto Rico is adequate for transportation conformity purposes.

DATES: This finding is effective August 25, 2009.

FOR FURTHER INFORMATION CONTACT: Marina Cubias-Castro, Air Programs Branch, Environmental Protection Agency—Region 2, 290 Broadway, 25th floor, New York, NY 10007, castro.marina@epa.gov, 212-637-3713.

The finding and the response to comments are available at EPA's conformity Web site: http://www.epa.gov/otaq/stateresources/transconf/adequacy.htm.

SUPPLEMENTARY INFORMATION:

Background

Today's notice is simply an announcement of a finding that we have already made. EPA Region 2 sent a letter to the Puerto Rico Environmental Quality Board on June 23, 2009 stating that the Municipality of Guaynabo submitted PM10 Limited Maintenance Plan, is adequate.

On August 9, 2001, EPA issued guidance on streamlined maintenance plan provisions for certain moderate PM10 nonattainment areas seeking redesignation to attainment (Memo from Lydia Wegman, Director, Air Quality Standards and Strategies Division, entitled “Limited Maintenance Plan Option for Moderate PM10 Nonattainment Areas”). The LMP Option memo contains a statistical demonstration that areas meeting certain air quality criteria will, with a high degree of probability, maintain the standard 10 years into the future. Since the Municipality of Guaynabo has been attaining the PM10 NAAQS for at least 5 years, and has a low risk of future exceedances, the limited maintenance plan policy allows both Puerto Rico and EPA to redesignate this area, which is at a low risk of PM10 violations, in an expedited manner. EPA's adequacy review of the limited maintenance plan for the Municipality of Guaynabo primarily focuses on whether the area qualifies for the applicable limited maintenance plan policy for PM10. We have found the maintenance plan for the Municipality of Guaynabo adequate for conformity purposes under our limited maintenance plan policy.

Transportation conformity is required by Clean Air Act section 176(c). EPA's conformity rule requires that transportation plans, transportation improvement programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). We've described our process for determining the adequacy of submitted SIP budgets in our July 1, 2004 preamble starting at 69 FR 40038 and we used the information in these resources in making our adequacy determination. Please note that an adequacy review is separate from EPA's completeness review, and should not be used to prejudge EPA's ultimate approval action for the SIP. Even if we find a limited maintenance plan adequate, the SIP could later be disapproved.

Authority: 42 U.S.C. 7401-7671 q.

Dated: July 28, 2009.
George Pavlou,
Acting Regional Administrator, Region 2.

[FR Doc. E9-19068 Filed 8-7-09; 8:45 am]

BILLING CODE 6560-50-P